DEPARTMENT OF HEALTH AND HUMAN SERVICES

National Institutes of Health

National Institute of Diabetes and Digestive and Kidney Diseases; Amended Notice of Meeting

Notice is hereby given of a change in the meeting of the National Commission on Digestive Diseases, May 16, 2008, 4 p.m. to 7 p.m., Westin San Diego, 400 West Broadway, Topaz Room, San Diego, CA 92101 which was published in the Federal Register on March 19, 2008, 73 FR 14823.

The notice is being amended to correct the URL that was previously published to http://www2.niddk.nih.gov/AboutNlDDK/CommitteesAndWorkingGroups/NCDD/default.htm.

Dated: March 20, 2008.
Anna Snouffer,
Acting Director, Office of Federal Advisory Committee Policy.

[FR Doc. E8-6195 Filed 3-27-08; 8:45 am]

BILLING CODE 4140-01-M